INTERNATIONAL TRADE COMMISSION

[Investigation No. 337-TA-1327]

Certain Solar Power Optimizers, Inverters, and Components Thereof; Notice of a Commission Determination Not To Review an Initial Determination Granting a Joint Motion To Terminate the Investigation in Its Entirety; Termination of Investigation

AGENCY: U.S. International Trade Commission.

ACTION: Notice.

SUMMARY: Notice is hereby given that the U.S. International Trade Commission (“Commission”) has determined not to review an initial determination (“ID”) (Order No. 16) of the presiding chief administrative law judge (“CALJ”) granting a joint motion to terminate the investigation in its entirety based upon settlement.

FOR FURTHER INFORMATION CONTACT: Panyin A. Hughes, Office of the General Counsel, U.S. International Trade Commission, 500 E Street SW, Washington, DC 20436, telephone (202) 205-3042. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On September 2, 2022, the Commission instituted this investigation based on a complaint filed by Ampt, LLC of Fort Collins, Colorado (“Ampt”). 87 FR 54262-63 (Sept. 2, 2022). The complaint alleged violations of section 337 based on the importation into the United States, the sale for importation, or the sale within the United States after importation of certain solar power optimizers, inverters, and components thereof by reason of infringement of one or more of claims 1-3, 9, 10, and 12 of U.S. Patent No. 11,289,917 (“the '917 patent”) and claims 1, 3-5, 7-10, and 17 of U.S. Patent No. 9,673,630 (“the '630 patent”). The Commission's notice of investigation named SolarEdge Technologies, Inc. of Milpitas, California and SolarEdge Technologies, Ltd. of Herzliya, Israel (together, “SolarEdge”) as the respondents. Id. The Office of Unfair Import Investigations was not named as a party in the investigation. Id.

On February 9, 2023, the CALJ issued an ID granting a motion to terminate the investigation as to (1) claims 1-3, 9, and 10 of the '917 patent and (2) claims 1, 3, 5, and 7-9 of the '630 patent based upon withdrawal of the allegations in the complaint as to these claims. Order No. 10 (June 9, 2023), unreviewed by Comm'n Notice (Mar. 13, 2023).

On May 11, 2023, Ampt and SolarEdge jointly moved to terminate the investigation in its entirety based upon reaching a settlement agreement.

On May 22, 2023, the CALJ issued the subject ID granting the motion. Commission Rule 210.21(a)(2) provides that “[a]ny party may move at any time to terminate an investigation in whole or in part as to any or all respondents on the basis of a settlement, a licensing or other agreement . . . .” 19 CFR 210.21(a)(2). The ID found that in compliance with 19 CFR 210.21(b)(1), “the motion contains a statement that there are no other agreements, written or oral, express or implied, between the private parties concerning the subject matter of the investigation.” ID at 1. The parties also submitted confidential and public versions of the settlement agreement. Id. The ID further found that “any effect the proposed termination of this investigation may have on the public interest factors set forth in Commission Rule 210.50(b)(2) does not counsel against termination of the investigation” and that “termination of the investigation will preserve Commission resources and avoid unnecessary litigation.” Id. at 2. No one petitioned for review of the subject ID.

The Commission has determined not to review the subject ID. The investigation is terminated in its entirety.

The Commission vote for this determination took place on June 8, 2023.

The authority for the Commission's determination is contained in section 337 of the Tariff Act of 1930, as amended (19 U.S.C. 1337), and in Part 210 of the Commission's Rules of Practice and Procedure (19 CFR part 210).

By order of the Commission.
Issued: June 9, 2023.
Lisa Barton,
Secretary to the Commission.

[FR Doc. 2023-12739 Filed 6-13-23; 8:45 am]

BILLING CODE 7020-02-P